DEPARTMENT OF ENERGY

Federal Energy Regulatory Commission

[Docket No. RP01-281-001]

Young Gas Storage Company, LTD; Notice of Compliance Filing

April 10, 2001.

Take notice that on April 5, 2001, Young Gas Storage Company, Ltd. tendered for filing as part of its FERC Gas Tariff, Original Volume No. 1, the following tariff sheets, with an effective date of May 1, 2001:

Substitute Eighth Revised Sheet No. 49

Substitute Seventh Revised Sheet No. 49A

Young states that the tariff sheets are being filed to revise the tariff are being filed to revise the tariff sheets originally filed in this proceeding to delete certain standards that should not have been listed in the GISB standards reference table.

Young states that copies of the filing have been served upon all interested parties and state commissions.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Comments, protests and interventions may be filed electronically via the internet in lieu of paper. See, 18 CFR 385.2001(a)(1)(iii) and the instructions on the Commission's web site at http://www.ferc.fed.us/efi/doorbell.htm.

David P. Boergers,
Secretary.

[FR Doc. 01-9303 Filed 4-13-01; 8:45 am]

BILLING CODE 6717-01-M